DEPARTMENT OF ENERGY

Federal Energy Regulatory Commission

[Docket No. RP00-252-001]

Florida Gas Transmission Company; Notice of Proposed Compliance Filing

May 25, 2000.

Take notice that on May 22, 2000, Florida Gas Transmission Company (FGT) tendered for filing to become part of its FERC Gas Tariff, Third Revised Volume No. 1, the following tariff sheets, effective June 1, 2000:

Fortieth Revised Sheet No. 8A

Thirty-Second Revised Sheet No. 8A.01

Thirty-Second Revised Sheet No. 8A.02

Thirty-Sixth Revised Sheet No. 8B

Twenty-Ninth Revised Sheet No. 8B.01

FGT states that on February 29, 2000, in Docket No. RP00-194-000, FGT filed to establish a Base Fuel Reimbursement Charge Percentage (Base FRCP) of 2.99% for the six-month Summer Period beginning April 1, 2000. The Base FRCP of 2.99% was accepted by Commission letter order issued March 23, 2000. Subsequently, on April 19, 2000, FGT filed a flex adjustment of 0.01% to be effective May 1, 2000, which resulted in an Effective FRCP of 3.00% when combined with the Base FRCP of 2.99%. In an order dated May, 2000, the Commission accepted the adjustment effective May 18, 2000, but directed FGT to file tariff sheets within seven days to revise the Effective FRCP to 2.99% effective June 1, 2000. FGT is making the instant filing in compliance with the Commission's May 18, order.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-13626 Filed 5-31-00; 8:45 am]

BILLING CODE 6717-01-M